DEPARTMENT OF AGRICULTURE

Federal Crop Insurance Corporation

[Docket ID FCIC-26-0001]

Notice of Request for Extension, Without Change, of a Currently Approved Information Collection

AGENCY: Federal Crop Insurance Corporation (FCIC), U.S. Department of Agriculture (USDA).

ACTION: Extension, without change, of a currently approved information collection; comment request.

SUMMARY: This notice announces a public comment period on the information collection requests (ICRs) associated with the Subpart U—Ineligibility for Programs under the Federal Crop Insurance Act.

DATES: Comments that we receive on this notice will be accepted until close of business April 20, 2026.

ADDRESSES: We invite you to submit comments on this notice. You may submit comments electronically through the Federal eRulemaking Portal as follows:

• Federal eRulemaking Portal: Go to https://www.regulations.gov and search for Docket ID FCIC-26-0001. Follow the online instructions for submitting comments.

All comments will be posted without change and will be publicly available on www.regulations.gov.

FOR FURTHER INFORMATION CONTACT: Alex Sereno; telephone (919) 896-1689; email: alexander.sereno@usda.gov. Persons with disabilities who require alternative means of communication should contact the USDA Target Center at (202) 720-2600 (voice and text telephone (TTY mode)) or dial 711 for Telecommunications Relay Service (both voice and text telephone users can initiate this call from any telephone).

SUPPLEMENTARY INFORMATION:

Title: 7 CFR, part 400, subpart U—Ineligibility for Programs under the Federal Crop Insurance Act.

OMB Control Number: 0563-0085.

Expiration Date of Approval: September 30, 2026.

Type of Request: Extension, without change, of a currently approved information collection.

Abstract: The following mandates require FCIC to identify persons who are ineligible to participate in the Federal crop insurance program administered under the Federal Crop Insurance Act:

(1) Section 1764 of the Food Security Act of 1985 (Pub. L. 99-198);

(2) 21 U.S.C., Chapter 13;

(3) Section 14211 of the Food, Conservation, and Energy Act of 2008 (Pub. L. 110-246);

(4) Executive Order 12549; and

(5) 7 U.S.C. 1515.

FCIC and approved insurance providers use the information collected to determine whether persons seeking to obtain Federal crop insurance coverage are ineligible for such coverage according to those mandates. The purpose of collecting the information is to ensure persons that are ineligible for benefits under the Federal crop insurance program are accurately identified as such and do not obtain benefits to which they are not eligible.

FCIC and the Risk Management Agency (RMA) do not obtain information used to identify a person as ineligible for benefits under the Federal crop insurance program directly from the ineligible person. Approved insurance providers notify RMA of persons with a delinquent debt electronically through a secure automated system. RMA (1) sends written notification to the person informing them they are ineligible for benefits under the Federal crop insurance program; and (2) places that person on the RMA Ineligible Tracking System until the person regains eligibility for such benefits.

The USDA Office of General Counsel notifies RMA in writing of persons convicted of controlled substance violations. RMA (1) sends written notification to the person informing them they are ineligible for benefits under the Federal crop insurance program; and (2) places that person on RMA's Ineligible Tracking System until the person regains eligibility for such benefits.

Persons debarred, suspended, or disqualified by RMA are (1) notified, in writing, they are ineligible for benefits under the Federal crop insurance program; and (2) placed on RMA's Ineligible Tracking System until the person regains eligibility for such benefits.

Information identifying persons who are ineligible for benefits under the Federal crop insurance program is made available to all approved insurance providers through RMA's Ineligible Tracking System. The Ineligible Tracking System is an electronic system, maintained by RMA, which identifies persons who are ineligible to participate in the Federal crop insurance program. The information must be made available to all approved insurance providers to ensure ineligible persons cannot circumvent the mandates by switching from one approved insurance provider to another.

In addition, information identifying persons who are debarred, suspended, or disqualified by RMA is provided to the General Services Administration to be included in the Excluded Parties List System, an electronic system maintained by the General Services Administration that provides current information about persons who are excluded or disqualified from covered transactions.

FCIC is requesting that the Office of Management and Budget (OMB) extend the approval of this information collection for an additional 3 years.

The purpose of this notice is to solicit comments from the public concerning this information collection. These comments will help us:

(1) Evaluate whether the proposed collection of information is necessary for the proper performance of the functions of the agency, including whether the information will have practical utility;

(2) Evaluate the accuracy of the agency's estimate of burden of the collection of information;

(3) Enhance the quality, utility, and clarity of the information to be collected; and

(4) Minimize the burden of the collection of information on those who are to respond (such as using appropriate automated, electronic, mechanical, or other forms of information technology, e.g., permitting electronic submission of responses).

Respondents/Affected Entities: Insurance companies reinsured by FCIC.

Estimated Annual Number of Respondents: 13.

Estimated Number of Total Annual Responses per Respondent: 591.

Estimate Time per Respondent: 0.3835 hours.

Estimated Total Annual Burden on Respondents: 2,947 hours.

All responses to this notice will be summarized and included in the request for OMB approval. All comments will also become a matter of public record.

Patricia Swanson,
Manager, Federal Crop Insurance Corporation.

[FR Doc. 2026-03308 Filed 2-18-26; 8:45 am]

BILLING CODE 3410-08-P